DEPARTMENT OF LABOR

Office of the Secretary

Submission for OMB Review; Comment Request

September 12, 2000.

The Department of Labor (DOL) has submitted the following public information collection request (ICR) to the Office of Management and Budget (OMB) for review and approval in accordance with the Paperwork Reduction Act of 1995 (Pub. L. 104-13, 44 U.S.C. Chapter 35). A copy of the ICR, with applicable supporting documentation, may be obtained by calling the Department of Labor. To obtain documentation for BLS, ETA, PWBA, and OASAM contact Karin Kurz (202-693-4127 or by E-mail to Kurz-Karin@dol.gov). To obtain documentation for ESA, MSHA, OSHA, and VETS contact Darrin King (202-693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 (202-395-7316), on or before October 18, 2000.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Revision of a currently approved collection.

Agency: Bureau of Labor Statistics.

Title: Annual Refiling Survey.

OMB Number: 1220-0032.

Affected Public: Individuals or households; Business or other for-profit; Not-for-profit institutions; Farms; Federal government; State, Local or Tribal Government.

Frequency: Once.

Form No. | Respondents | Total responses | Average time (in hrs) | Total hours
BLS 3023-NVS | 1,573,500 | 1,573,500 | .083 | 130,601
BLS 3023-NVM | 15,650 | 15,650 | .25 | 3,913
BLS 3023-NCA | 111,000 | 111,000 | .167 | 18,537
BLS 3023-NAX | 0 | 0 | .083 | 0
Total Hours |  |  |  | 153,051

Total annualized capital/startup costs: $0.

Total annual costs (operating/maintaining systems or purchasing services: $0.

Description: Accurate industrial coding based on the 1987 Standard Industrial Classification Manual and the 1997 North American Industry Classification System Manual is needed by many Federal, state, and local government officials and private researchers. This revision will permit the use of previously approved forms to obtain this information.

Ira L. Mills,
Departmental Clearance Officer.

[FR Doc. 00-23937 Filed 9-15-00; 8:45 am]

BILLING CODE 4510-24-M